DEPARTMENT OF ENERGY

Federal Energy Regulatory Commission

Combined Notice of Filings #1

Take notice that the Commission received the following electric rate filings:

Docket Numbers: ER06-771-003; ER06-772-003.

Applicants: ExxonMobil Baton Rouge Complex.

Description: ExxonMobil Entities submits their Triennial Market-Power Filing for the Southeast Region.

Filed Date: 11/15/2011.

Accession Number: 20111115-5107.

Comment Date: 5 p.m. ET on 1/17/2012.

Docket Numbers: ER10-1934-001; ER10-1893-001; ER10-2036-002; ER10-1898-001; ER10-1889-001; ER10-1858-001; ER10-2044-002; ER10-1895-001; ER10-1870-001; ER10-2037-002; ER10-1942-003; ER10-2042-004; ER10-1944-001; ER10-2051-002; ER10-2043-002; ER10-2040-002; ER10-2039-002; ER10-2029-004; ER10-2041-002.

Applicants: Calpine Energy Services, L.P., Bethpage Energy Center 3, LLC, Calpine Construction Finance Company, LP,CES Marketing V, L.P.,CES Marketing X, LLC, Zion Energy LLC, Calpine Philadelphia Inc., CPN Bethpage 3rd Turbine, Inc., KIAC Partners, Nissequogue Cogen Partners, TBG Cogen Partners, CES Marketing IX, LLC, Calpine Mid-Atlantic Marketing, LLC, Calpine Bethlehem, LLC, Calpine Mid-Atlantic Generation, LLC, Calpine Mid Merit, LLC, Calpine New Jersey Generation, LLC, Calpine Vineland Solar, LLC, Calpine Newark, LLC.

Description: Supplement to Updated Market Power Analysis of Bethpage Energy Center 3, LLC, et al.

Filed Date: 11/15/2011.

Accession Number: 20111115-5133.

Comment Date: 5 p.m. ET on 12/6/2011.

Docket Numbers: ER11-3930-000; ER11-3935-000; ER11-3937-000; ER11-3936-000; ER11-3934-000; ER11-3932-000; ER11-3925-000; ER11-3931-000; ER11-3929-000; ER11-3928-000.

Applicants: Big Sky Wind, LLC, CL Power Sales Eight, L.L.C., CP Power Sales Seventeen, L.L.C., CP Power Sales Twenty, L.L.C., Edison Mission Marketing & Trading, Inc., Edison Mission Solutions, L.L.C., EME Homer City Generation, L.P., Forward WindPower, LLC, Lookout WindPower, LLC, Midwest Generation, LLC.

Description: The EME Northeast Companies submits Supplement to Triennial Market-Based Rate Update for the Northeast Region.

Filed Date: 11/15/2011.

Accession Number: 20111115-5184.

Comment Date: 5 p.m. ET on 12/6/2011.

Docket Numbers: ER11-4402-001.

Applicants: PJM Interconnection, L.L.C.

Description: Amendment to PJMs August 30, 2011 filing in ER11-4402 per Oct. 31, 2011 Order to be effective 11/1/2011.

Filed Date: 11/15/2011.

Accession Number: 20111115-5096.

Comment Date: 5 p.m. ET on 12/6/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2011.
Nathaniel J. Davis, Sr.,
Deputy Secretary.

[FR Doc. 2011-30208 Filed 11-22-11; 8:45 am]

BILLING CODE 6717-01-P